DEPARTMENT OF COMMERCE

National Oceanic and Atmospheric Administration

50 CFR Part 697

[Docket No. 010918229-1229-01; I.D. 022301A]

RIN 0648-AP15

American Lobster Fishery

AGENCY: National Marine Fisheries Service (NMFS), National Oceanic and Atmospheric Administration (NOAA), Commerce.

ACTION: Proposed rule; extension of the comment period.

SUMMARY: In a document published in the Federal Register on January 3, 2002, NMFS requested comments on proposed regulations to implement proposed management measures for the American lobster fishery in the Exclusive Economic Zone (EEZ) from Maine through North Carolina on or before February 19, 2002. This proposed rule document considers revisions to Federal American lobster regulations that are designed to be compatible with the Atlantic States Marine Fisheries Commission (Commission) Interstate Fishery Management Plan for American Lobster. The intent of this document is to announce an extension of the public comment period from February 19, 2002, to February 28, 2002.

DATES: Receipt of comments on the proposed rule is extended from February 19, 2002, to February 28, 2002.

ADDRESSES: Comments on the proposed rule should be sent to, and copies of supporting documents, including a Draft Environmental Impact Statement/Regulatory Impact Review and an Initial Regulatory Flexibility Analysis, are available from the Director, State, Federal and Constituent Programs Office, NMFS, One Blackburn Drive, Gloucester, MA 01930. Comments will not be accepted if submitted via e-mail or the Internet. Comments regarding the collection-of-information requirements contained in the proposed rule should be sent to Harry Mears at the above address, and the Office of Information and Regulatory Affairs, Office of Management and Budget, Washington, DC 20503 (ATTN: NOAA Desk Officer).

FOR FURTHER INFORMATION CONTACT: Robert Ross, NMFS, Northeast Region, 978-281-9234.

SUPPLEMENTARY INFORMATION: As announced in the Federal Register on January 3, 2002 (67 FR 282), NMFS requested comments on proposed regulations to implement proposed management measures for the American lobster fishery in the EEZ from Maine through North Carolina on or before February 19, 2002. In a letter to the NMFS Northeast Regional Administrator dated January 7, 2002, the Commission requested an extension of the public comment period to allow for full discussion and public comment on the proposed Federal American lobster regulations at a public meeting of the Commission’s American Lobster Board scheduled to occur during the week of February 18, 2002. Therefore, by this document, NMFS is extending the public comment period from February 19, 2002, to February 28, 2002. There were no changes from the proposed rule previously published.

Dated: January 25, 2002.
Jon Kurland,
Acting Director, Office of Sustainable Fisheries, National Marine Fisheries Service.

[FR Doc. 02-2404 Filed 1-30-02; 8:45 am]

BILLING CODE 3510-22-S